ENVIRONMENTAL PROTECTION AGENCY

[EPA-HQ-ORD-2015-0467; FRL-9932-08-ORD]

Board of Scientific Counselors (BOSC) Safe and Sustainable Water Resources Subcommittee Meeting—August 2015; Public Requests Correction

AGENCY: Environmental Protection Agency (EPA).

ACTION: Notice; correction.

SUMMARY: On July 30, 2015, the U.S. Environmental Protection Agency (EPA), Office of Research and Development (ORD), gave notice of a meeting of the Board of Scientific Counselors (BOSC) Safe and Sustainable Water Resources Subcommittee in the Federal Register. On Page 45536, Column 3, in the DATES section, EPA inadvertently listed the date by which members of the public should request a draft agenda or request an opportunity to make oral presentations at the meeting as July 25, 2015. The correct date by which requests should be made is August 25, 2015.

FOR FURTHER INFORMATION CONTACT: The Designated Federal Officer via mail at: Cindy Roberts, Mail Code 8104R, Office of Science Policy, Office of Research and Development, U.S. Environmental Protection Agency, 1200 Pennsylvania Ave. NW., Washington, DC 20460; via phone/voice mail at: (202) 564-1999; or via email at: roberts.cindy@epa.gov.

Dated: July 31, 2015.
Fred S. Hauchman,
Director, Office of Science Policy.

[FR Doc. 2015-19592 Filed 8-7-15; 8:45 am]

BILLING CODE 6560-50-P